DEFENSE NUCLEAR FACILITIES SAFETY BOARD

Sunshine Act Notice

AGENCY: Defense Nuclear Facilities Safety Board.

ACTION: Notice of Public Meeting and Hearing.

SUMMARY: Pursuant to the provisions of the “Government in the Sunshine Act” (5 U.S.C. 552b), and as authorized by 42 U.S.C. 2286b, notice is hereby given of the Defense Nuclear Facilities Safety Board's (Board) public meeting and hearing described below. The Board invites any interested persons or groups to present any comments, technical information, or data concerning safety issues related to the matters to be considered.

Time and Date of Meeting: Session I: 1:00 p.m.-5:30 p.m., March 14, 2013; Session II: 7:00 p.m.-9:00 p.m., March 14, 2013.

Place: Amarillo Civic Center, 401 S. Buchanan Street, Amarillo, Texas 79101. The Board will convene the hearing in the Regency Room which is accessible from Entrance 4 on the Johnson Street side of the Civic Center.

Status: Open. While the Government in the Sunshine Act does not require that the scheduled discussion be conducted in a meeting, the Board has determined that an open meeting in this specific case furthers the public interests underlying both the Government in the Sunshine Act and the Board's enabling legislation.

Matters To Be Considered: In Session I of this public meeting and hearing, the Board will receive testimony from the National Nuclear Security Administration (NNSA) and its contractor concerning the safety culture at the Pantex Plant. Areas of inquiry will include identification of shortfalls in the Pantex safety culture, potential impacts that a flawed safety culture may have on nuclear explosives operations, and management approaches to improving safety culture. The Board will also examine the status of emergency preparedness at the Pantex Plant. The Board will focus on plans and capabilities to respond to a site emergency, demonstrated performance in drills and exercises, and preparation for severe events resulting from natural phenomena, such as the event that occurred at the Fukushima Daiichi complex. During Session II, the Board will receive testimony concerning safety at Pantex defense nuclear facilities. The Board will examine issues related to nuclear explosive safety, fire protection systems, and facility structures.

FOR FURTHER INFORMATION CONTACT: Debra H. Richardson, Deputy General Manager, Defense Nuclear Facilities Safety Board, 625 Indiana Avenue NW., Suite 700, Washington, DC 20004-2901, (800) 788-4016. This is a toll-free number.

SUPPLEMENTARY INFORMATION: Public participation in the hearing is invited. The Board is setting aside time at the end of each session of the hearing for presentations and comments from the public. Requests to speak may be submitted in writing or by telephone. The Board asks that commenters describe the nature and scope of their oral presentations. Those who contact the Board prior to close of business on March 11, 2013, will be scheduled to speak at the session of the hearing most relevant to their presentations. At the beginning of Session I, the Board will post a schedule for speakers at the entrance to the hearing room. Anyone who wishes to comment or provide technical information or data may do so in writing, either in lieu of, or in addition to, making an oral presentation. The Board Members may question presenters to the extent deemed appropriate. Documents will be accepted at the hearing or may be sent to the Board's Washington, DC office. The Board will hold the record open until April 15, 2013, for the receipt of additional materials. The hearing will be presented live through Internet video streaming. A link to the presentation will be available on the Board's web site (www.dnfsb.gov). A transcript of the hearing, along with a DVD video recording, will be made available by the Board for inspection and viewing by the public at the Board's Washington office and at DOE's public reading room at the DOE Federal Building, 1000 Independence Avenue SW., Washington, DC 20585. The Board specifically reserves its right to further schedule and otherwise regulate the course of the meeting and hearing, to recess, reconvene, postpone, or adjourn the meeting and hearing, conduct further reviews, and otherwise exercise its power under the Atomic Energy Act of 1954, as amended.

Dated: January 17, 2013.
Peter S. Winokur,
Chairman.

[FR Doc. 2013-01256 Filed 1-17-13; 11:15 am]

BILLING CODE 3670-01-P